DEPARTMENT OF TRANSPORTATION

Federal Highway Administration

Environmental Impact Statement: Lincoln County, Oregon

AGENCY: Federal Highway Administration (FHWA), DOT.

ACTION: Notice of Intent.

SUMMARY: The FHWA is issuing this notice to advise the public that a supplement to an Environmental Impact Statement (EIS) will be prepared for a proposed highway project in Lincoln County, Oregon. The Oregon Department of Transportation (ODOT) initially started the project development process for the proposed Pioneer Mountain-Eddyville project with the intent to use their own funds to construct the project. They published a Draft Environmental Impact Statement (DEIS) in September 1993 and held a Public Hearing in October 1993. ODOT did not complete the final EIS for the proposed project. ODOT is now proposing to request federal aid participation for the project. As a result, FHWA is reviewing the DEIS, public hearing testimony, and comments received on the DEIS to determine if all federal regulations and processing requirements have been met.

FOR FURTHER INFORMATION CONTACT: Anthony Boesen, Region 2 Liaison Engineer, Federal Highway Administration, Equitable Center, Suite 100, 530 Center Street NE, Salem, Oregon 97301, Telephone (503) 399-5749.

SUPPLEMENTARY INFORMATION: The FHWA, in cooperation with ODOT and after evaluation of the DEIS, public hearing testimony and written comments, will prepare a Supplemental Environmental Impact Statement for the project, and hold additional public hearing as necessary.

The proposed project will realign a 10 mile, 2-lane roadway section from mile point 14.5 to 24.75 of the Corvallis-Newport Highway (US 20). Two Build Alternatives and a No-Build Alternative were considered in the DEIS. Build Alternative number one generally followed the existing roadway and the Yaquina River. Build Alternative number two is on new alignment and overall reduces the highway length by 2.5 miles. An option common to both Build Alternatives was considered for a short segment on the west end of the project; this design option was a channel change of Simpson Creek. Based on public input, agency comments and coordination, and overall environmental impacts, Build Alternative number two without the channel change of Simpson Creek is the preferred alternative determined by ODOT. Lincoln County has strongly supported Alternative 2 and has now included the proposed project in their county comprehensive land use plans.

The project is considered necessary to improve the highway to current safety standards, eliminate numerous sharp curves, reduce a higher than average accident rate that occurs on this segment of highway, and is part of an overall upgrade of this highway between the Willamette Valley and the Oregon Coast.

There have been no significant changes in development/conditions in the area since the DEIS was prepared, as the proposed route is predominately through underdeveloped large timber company holdings that have been logged within recent years. The project has been developed with consideration for the proposed listings of the salmon by the National Marine Fisheries Service (NMFS). Since then the salmon has been formally listed by NMFS. There appears to be no Section 4(f) eligible properties that would be impacted by this proposed project.

The DEIS describing the proposed action and solicitation of comments was sent to all appropriate federal, state, and local agencies by ODOT. Public meetings and a public hearing were held for the project. ODOT published a Hearing Study Report/Decision Document in March 1994 that summarized and responded to all comments received at the public hearing and on the DEIS. As a result of comments received, minor changes are being considered for inclusion in the proposed project and subsequent environmental documents. Since ODOT formally circulated the DEIS, we propose to develop a supplemental EIS and circulate it with a copy of the summary of the DEIS as part of our normal distribution. Copies of the entire DEIS will be made available upon request. Additional public meetings/public hearing will be held as needed.

To ensure that the full range of issues related to this proposed action are addressed and significant issues identified, comments, and suggestions are invited from all interested parties. Comments or questions concerning this proposed action and the EIS should be directed to the FHWA at the address provided above.

(Catalog of Federal Domestic Assistance Program Number 20.205, Highway Research, Planning and Construction. The regulations implementing Executive Order 12372 regarding intergovernmental consultation on Federal programs and activities apply to this program.)

Issued on: July 12, 2000.
Elton Chang,
Environmental Engineer, Oregon Division.

[FR Doc. 00-18454 Filed 7-20-00; 8:45 am]

BILLING CODE 4910-22-M